DEPARTMENT OF HOMELAND SECURITY

U.S. Customs and Border Protection

[Docket No. USCBP-2017-0030]

U.S. Customs and Border Protection User Fee Advisory Committee (UFAC) Charter Renewal

AGENCY: U.S. Customs and Border Protection, Department of Homeland Security (DHS).

ACTION: Committee management; notice of Federal Advisory Committee charter renewal.

SUMMARY: The Department of Homeland Security (DHS) renewed the charter for the U.S. Customs and Border Protection's User Fee Advisory Committee (UFAC) on June 22, 2017. The charter will expire on June 22, 2019.

FOR FURTHER INFORMATION CONTACT: Ms. Sonja Grant, Office of Trade Relations, U.S. Customs and Border Protection, 1300 Pennsylvania Avenue NW., Room 3.5A, Washington, DC 20229; telephone (202) 344-1440; facsimile (202) 325-4290.

SUPPLEMENTARY INFORMATION:

Name of committee: U.S. Customs and Border Protection User Fee Advisory Committee (UFAC).

Purpose and objective: The charter of the U.S. Customs and Border Protection User Fee Advisory Committee (UFAC) was renewed for two years in accordance with the Federal Advisory Committee Act (FACA) 5 U.S.C. Appendix. A copy of the charter can be found at http://www.cbp.gov/trade/stakeholder-engagement/user-fee-advisory-committee. UFAC is tasked with providing advice to the Secretary of the Department of Homeland Security through the Commissioner of U.S. Customs and Border Protection on matters related to the performance of inspections coinciding with the assessment of an agriculture, customs, or immigration user fee.

Duration: The committee's charter was renewed on June 22, 2017, and expires on June 22, 2019.

Responsible CBP officials: Mr. Bradley Hayes, Office of Trade Relations, U.S. Customs and Border Protection, 1300 Pennsylvania Avenue NW., Room 3.5A, Washington, DC 20229; telephone (202) 344-1440.

Dated: August 28, 2017.
Bradley Hayes,
Executive Director, Office of Trade Relations.

[FR Doc. 2017-19000 Filed 9-6-17; 8:45 am]

BILLING CODE 9111-14-P